DEPARTMENT OF HOMELAND SECURITY

Coast Guard

[Docket No. USCG-2014-0576]

Merchant Marine Personnel Advisory Committee

AGENCY: Coast Guard, DHS.

ACTION: Notice of Federal Advisory Committee Working Group Meeting.

SUMMARY: A working group of the Merchant Marine Personnel Advisory Committee will meet to review and work on Task Statement 87, concerning review of policy documents providing guidance on the implementation of the December 24, 2013 International Convention on Standards of Training, Certification and Watchkeeping and changes to national endorsements rulemaking. This meeting will be open to the public.

DATES: The Merchant Marine Personnel Advisory Committee working group will meet on September 9, 2014, from 8 a.m. until 4 p.m. Written comments for distribution to committee members and for inclusion on the Merchant Marine Personnel Advisory Committee Web site must be submitted on or before August 27, 2014. Please note that this working group is expected to continue its discussions on September 10, 2014, as part of the Merchant Marine Personnel Advisory Committee meeting announced in a separate notice in the Federal Register under Docket No. USCG-2014-0576, but may adjourn early if all business is finished.

ADDRESSES: The working group will meet in the Luebbe conference room of the Calhoon Marine Engineer Beneficial Association (MEBA) Engineering School, 27050 Saint Michaels Rd., Easton, MD 21601. For further information on the location of the Calhoon MEBA Engineering School, please contact Ms. Janet Sadler at 410-822-9600, extension 370 or email jsadler@mebaschool.org.

For information on facilities or services for individuals with disabilities or to request special assistance, please contact Mr. Davis Breyer as indicated in the FOR FURTHER INFORMATION CONTACT paragraph below. To facilitate public participation, we are inviting public comment on the issue to be considered by the working group as listed in the “Agenda” section below. Written comments must be identified by Docket No. USCG-2014-0576 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow the instructions on the Web site.

A public oral comment period will be held during the meeting and speakers are requested to limit their comments to 3 minutes. Please note that the public oral comment period may end before the prescribed ending time following the last call for comments. Contact Mr. Davis Breyer as indicated below to register as a speaker. This notice may be viewed in our online docket, USCG-2014-0576, at http://www.regulations.gov.

FOR FURTHER INFORMATION CONTACT: Mr. Davis Breyer, Alternate Designated Federal Officer, telephone 202-372-1445, or at davis.j.breyer@uscg.mil. If you have any questions on viewing or submitting material to the docket, call Cheryl Collins, Program Manager, Docket Operations, telephone 202-366-9826 or 1-800-647-5527.

SUPPLEMENTARY INFORMATION: Notice of this meeting is given under the Federal Advisory Committee Act, 5 U.S.C. Appendix, Public Law 92-463, 86 Stat 770 as amended.

The Merchant Marine Personnel Advisory Committee was established under the Secretary's authority in section 871 of the Homeland Security Act of 2002, Title 6, United States Code, section 451, and chartered under the provisions of the Federal Advisory Committee Act. The Committee acts solely in an advisory capacity to the Secretary of the Department of Homeland Security through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation is available at https://homeport.uscg.mil by using these key strokes: Missions; Port and Waterways Safety; Advisory Committees; MERPAC; and then use the announcements key. Alternatively, you may contact Mr. Davis Breyer as noted in the FOR FURTHER INFORMATION CONTACT section above.

Agenda

The agenda for the September 9, 2014, working group meeting is as follows:

(1) The working group will review, discuss and develop recommendations regarding Task Statement 87, Review of Policy Documents Providing Guidance on the Implementation of the December 24, 2013 International Convention on Standards of Training, Certification and Watchkeeping and Changes to National Endorsements Rulemaking;

(2) Public comment period;

(3) The working group will finalize proposed recommendations for the full committee to consider with regards to Task Statement 87, concerning Policy Documents Providing Guidance on the Implementation of the December 24, 2013 International Convention on Standards of Training, Certification and Watchkeeping and Changes to National Endorsements Rulemaking;

(4) Adjournment of meeting.

A copy of all meeting documentation is available at http://homeport.uscg.mil/merpac. Alternatively, you may contact Mr. Davis Breyer as noted in the FOR FURTHER INFORMATION CONTACT section above.

Dated: August 8, 2014.
J.G. Lantz,
Director of Commercial Regulations and Standards.

[FR Doc. 2014-19845 Filed 8-20-14; 8:45 am]

BILLING CODE 9110-04-P